DEPARTMENT OF TRANSPORTATION

Federal Highway Administration

Notice of Final Agency Action on Proposed Interstate 73 in South Carolina

AGENCY: Federal Highway Administration (FHWA), U.S. Department of Transportation (DOT).

ACTION: Notice of limitation on claims for judicial review of actions by U.S. Army Corps of Engineers (USACE).

SUMMARY: This notice announces actions taken by the USACE that are final. The actions taken relates to the Interstate 73 project, from the North Carolina border to S.C. Route 22, in Marlboro, Dillon, Marion, and Horry Counties, South Carolina. Those actions grant the Clean Water Act (CWA), Section 404 permit for the project.

DATES: By this notice, the FHWA is advising the public of a final agency action subject to 23 U.S.C. 139(l)(1). A claim seeking review of the Federal agency action on the highway project will be barred unless the claim is filed on or before December 29, 2017. If the Federal law that authorizes judicial review of a claim provides a time period of less than 150 days for filing such a claim, then that shorter time period still applies.

FOR FURTHER INFORMATION CONTACT: For FHWA: Emily O. Lawton, Division Administrator, Federal Highway Administration, Strom Thurmond Federal Building, 1835 Assembly Street, Suite 1270, Columbia, South Carolina 29201, Telephone: (803) 765-5411, Email: Emily.lawton@dot.gov. The FHWA South Carolina Division's Office normal business hours are 8:00 a.m. to 4:30 p.m. For USACE: Travis G. Hughes, Chief, Regulatory Division, U.S. Army Corps of Engineers, Charleston District, 69-A Hagood Avenue, Charleston, South Carolina 29403, Telephone: (843) 329-8044, Email: Travis.G.Hughes@usace.army.mil. The USACE Charleston District's Office normal business hours are 8:00 a.m. to 4:30 p.m. For South Carolina Department of Transportation (SCDOT): Chad C. Long, Director of Environmental Services, South Carolina Department of Transportation, 955 Park Street, Columbia, South Carolina 29201, Telephone: (803) 737-2314, Email: Longcc@scdot.org. The SCDOT's normal business hours are 8:00 a.m. to 4:30 p.m.

SUPPLEMENTARY INFORMATION: Notice is hereby given that the USACE has taken final agency action subject to 23 U.S.C. 139(l)(1) by issuing permits for the following highway project in the State of South Carolina: The Interstate 73 Project involves construction of a new alignment interstate corridor from I-73/I-74 in Richmond County, NC, extending through Marlboro, Dillon and Marion, and Horry counties, SC before terminating at S.C. Route 22 in Horry County, SC. Due to the length of the project being approximately 80 miles, it was logically divided into two sections: I-73 North, which traverses from I-73/74 near Hamlet, NC to I-95 near Dillon, SC; and I-73 South, which traverses from I-95 near Dillon, SC to S.C. Route 22 near Conway, SC. The actions by the FHWA, and the laws under which such actions were taken, are described in the Final Environmental Impact Statement (FEIS) for the I-73 South project, approved on November 29, 2007, in the FHWA Record of Decision (ROD) issued on February 8, 2008, and in other documents in the FHWA project records. Subsequent re-evaluations were conducted and approved on May 7, 2010 and May 10, 2017 for I-73 South. The FEIS for I-73 North was approved on August 6, 2008, and a ROD was issued on October 22, 2008. A subsequent re-evaluation was conducted and approved on May 10, 2017. The FHWA Draft EISs, FEISs, RODs, technical memoranda and re-evaluations can be viewed and downloaded from the project Web site at www.i73insc.com. These documents are also available by contacting the FHWA or SCDOT at the addresses provided above.

Notice is hereby given that, subsequent to the earlier FHWA actions, the USACE has taken a final agency action subject to 23 U.S.C. 139(l)(1) by issuing a ROD and a CWA Section 404 permit for the I-73 project in South Carolina. The USACE decision and permit (USACE Permit No. SAC-2008-01333) are available by contacting USACE at the address provided above, and can be viewed and downloaded from http://www.sac.usace.army.mil/Missions/Regulatory/Projects-of-Interest/.

This notice applies to the USACE actions described above as of the issuance date of this notice in the Federal Register. The laws under which actions were taken include, but are not limited to:

1. General: National Environmental Policy Act (NEPA), 42 U.S.C. 4321-4351; Federal-Aid Highway Act (FAHA) [23 U.S.C. 109 and 23 U.S.C. 128].

2. Wetlands and Water Resources: Section 404 of the Clean Water Act, 33 U.S.C. 1344.

Authority: 23 U.S.C. 139(l)(1), as amended by the Fixing America's Surface Transportation Act (FAST Act), Pub. L. 114-94.

Issued on: July 25, 2017.
Division Administrator, Columbia, South Carolina.

[FR Doc. 2017-16140 Filed 7-31-17; 8:45 am]

BILLING CODE 4910-22-P